DEPARTMENT OF HEALTH AND HUMAN SERVICES

[Document Identifier: OS-0990-0438]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 4, 2018.

ADDRESSES: Submit your comments to Sherrette.Funn@hhs.gov or by calling (202) 795-7714.

FOR FURTHER INFORMATION CONTACT: When submitting comments or requesting information, please include the document identifier 0990-0438-60D and project title for reference, to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Teen Pregnancy Prevention Performance Measures Data Collection, Office of Adolescent Health.

Type of Collection: Revision.

OMB No.: 0990-0438.

Abstract: The Office of Adolescent Health (OAH), U.S. Department of Health and Human Services (HHS) is requesting approval by OMB on a revision of the Teen Pregnancy Prevention (TPP) Performance Measures from funded grantees. The performance measures data include grantee-level measures (dissemination, partners, training, sustainability), and program-level data (reach, dosage, fidelity and quality). The data collection will provide OAH with the data needed to comply with accountability and federal performance requirements for the 1993 Government Performance and Results Act (Pub. L. 103-62); it will inform stakeholders of progress in meeting the goals of the program and of sustainability efforts; it will provide OAH with metrics for monitoring TPP grantees and it will facilitate grantees' continuous quality improvement in program implementation. Clearance is requested for three years.

The likely respondents would be the estimated 85 TPP grantees. TPP grantees will report all of the data to OAH twice per year.

Annualized Burden Hour Table
Forms (if necessary) | Respondents (if necessary) | Number of respondents | Number of responses per respondents | Average burden per response | Total burden hours
Grantee-level measures | TPP grantees | 85 | 2 | 1 | 170
Program-level Measures | TPP grantees | 85 | 2 | 372/60 | 1054
Total |  |  | 4 |  | 1224

Dated: March 30, 2018.
Terry S. Clark,
Asst. Paperwork Reduction Act Reports Clearance Officer, Office of the Secretary.

[FR Doc. 2018-06959 Filed 4-4-18; 8:45 am]

BILLING CODE 4168-11-P